DEPARTMENT OF ENERGY

Federal Energy Regulatory Commission

[Project No. 2266-116]

Nevada Irrigation District; Notice of Application for Temporary Variance and Soliciting Comments, Motions To Intervene, and Protests

Take notice that the following hydroelectric application has been filed with the Commission and is available for public inspection:

a. Application Type: Temporary Variance from license Articles 33 and 34.

b. Project No.: 2266-116.

c. Date Filed: May 6, 2019.

d. Applicant: Nevada Irrigation District.

e. Name of Project: Yuba-Bear Project.

f. Location: The project is located on the Middle and South Yuba Rivers, Bear River, and Jackson and Canyon Creeks in Nevada, Placer and Sierra counties, California.

g. Filed Pursuant to: Federal Power Act, 16 U.S.C. 791(a)-825(r).

h. Applicant Contact: Remleh Scherzinger, General Manager, Nevada Irrigation District, 1036 W Main St., Grass Valley, CA 95945; telephone: (530) 273-6185.

i. FERC Contact: Holly Frank, telephone: (202) 502-6833, and email address: holly.frank@ferc.gov.

j. Deadline for filing comments, motions to intervene, and protests is 30 days from the issuance date of this notice by the Commission.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2266-116.

k. Description of Request: The licensee is requesting a temporary variance from: (1) The minimum flow required by Article 33 from October 14 through October 31, 2019; and (2) the ramping rate required by Article 34 from October 14 through November 15, 2019. Article 33 requires a minimum flow of 75 cubic feet per second (cfs) in the river downstream of Rollins Dam from May 1 through October 31, and of 20 cfs from November 1 through April 30. Article 34 requires the maximum ramping rate downstream of the dam to not exceed 0.25 feet per hour (ft/hr). On October 13, 2019, the licensee would reduce flows in the Bear River below Rollins Dam down to 20 cfs following the 0.25 ft/hr ramping rate. The licensee requests the temporary variance in order to replace the emergency drawdown valve in Rollins Dam, which requires temporarily taking the valve and Rollins Powerhouse offline. The licensee proposes to conduct the valve replacement between October 14 and November 15, 2019. The licensee requests a variance from the minimum flow requirement until October 31, 2019, at which time the licensee would return the powerhouse on-line and be able to meet the minimum flow requirement. With the powerhouse back on-line, below a flow of approximately 150 cfs the licensee would not be able to meet the ramping rate requirement. Therefore the licensee the licensee requests a variance from the ramping rate requirement for instances when the powerhouse is brought back on-line or in case of emergency. Prior to initiating repairs, the licensee would notify the public and the agencies regarding the flow changes in the river. Following the initial flow reduction, the licensee would also conduct a reconnaissance survey in the river to determine whether any sensitive areas are exposed; if any are identified the licensee would consult with the resource agencies to discuss the appropriate action.

l. Locations of the Application: This filing may be viewed on the Commission's website at http://www.ferc.gov/docs-filing/elibrary.asp. Enter the docket number P-2266 in the docket number field to access the documents. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above and at the Commission's Public Reference Room, located at 888 First Street NE, Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: May 10, 2019.
Kimberly Bose,
Secretary.

[FR Doc. 2019-10296 Filed 5-16-19; 8:45 am]

BILLING CODE 6717-01-P